DEPARTMENT OF ENERGY

Federal Energy Regulatory Commission

[Project No. 12790-015]

Andrew Peklo III; Notice of Application Accepted for Filing and Soliciting Comments, Motions To Intervene, and Protests

April 16, 2020.

Take notice that the following hydroelectric application has been filed with the Commission and is available for public inspection:

a. Application Type: Request for a non-capacity amendment to the license.

b. Project No: 12790-015.

c. Date Filed: January 17, 2020.

d. Applicant: Andrew Peklo III.

e. Name of Project: Pomperaug Hydroelectric Project.

f. Location: The project will be located at an existing dam on the Pomperaug River, in the town of Woodbury, Litchfield County, Connecticut.

g. Filed Pursuant to: Federal Power Act, 16 U.S.C. 791a-825r.

h. Applicant Contact: Andrew Peklo, 29 Pomperaug Road, Woodbury, CT 06798, (203) 263-4566.

i. FERC Contact: Zeena Aljibury, (202) 502-6065, zeena.aljibury@ferc.gov.

j. Deadline for filing comments, motions to intervene, and protests: May 16, 2020.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12790-015. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Andrew Peklo III requests approval for an amendment to the license for the Pomperaug Hydro Project. Andrew Peklo III is proposing to use two 45 kilowatt (kW) turbines (for a total generating capacity of 90 kW) instead of the authorized one 76 kW turbine. The applicant states that there would be no change in the Project's hydraulic operating range or the approved instantaneous run-of-river mode of operation.

l. In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19) issued by the President on March 13, 2020. For assistance, contact FERC at FERCOnlineSupport@ferc.gov or call toll-free, (866) 208-3676 or TTY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 16, 2020.
Kimberly D. Bose,
Secretary.

[FR Doc. 2020-08638 Filed 4-22-20; 8:45 am]

BILLING CODE 6717-01-P